Proclamation 10708 of March 1, 2024

Read Across America Day, 2024

By the President of the United States of America

A Proclamation

On Read Across America Day, we celebrate the power of literacy to expand our minds and our understanding of the world around us. We salute all the parents, educators, authors, librarians, and mentors who encourage our children to read, and we appreciate the literature that dares them to think big.

For so many children, their dreams begin with a book. Whether it is through the stories they listen to at bed time or a trip to the local library, books introduce children to new ideas, cultures, and perspectives. They feed the imagination and stoke the fires of innovation that help them understand our world as it is and pioneer ways to make it better. I know firsthand how reading can change lives: the First Lady, a lifelong book lover, pursued a career as an educator because she wanted to share the gift of reading with people who “didn't know that joy.” As a community college professor, she continues to share that gift and remains committed to supporting all the teachers who do the same for their students.

The First Lady and I recognize there is still more work to do to improve literacy across the country. For more than a decade, studies show that reading competency of American students has been on the decline—and the impact of the COVID-19 pandemic only made things worse. That is why, since day one of my Administration, we have been committed to supporting educators and improving literacy—from our youngest readers to adults.

To get our schools back open and running during the pandemic, my American Rescue Plan secured $130 billion, putting more teachers in our classrooms and more counselors in our schools. This funding is providing high-quality tutoring, expanding summer and after-school programming, and increasing student engagement. Over the past 3 years, school districts have added more than 610,000 educators and staff. Our National Partnership for Student Success is working to add another 250,000 caring adults in tutoring, mentoring, and other critical support roles. That equals hundreds of thousands of additional professionals who are giving students the support they deserve.

We also know that early education is a powerful stepping stone for academic success. Research shows that children who start school at 3 and 4 years old are more likely to graduate from high school and further their education. It is a big reason why I am working to ensure that every child in America has access to high-quality preschool.

We are also supporting adults in their efforts to become better readers through my Administration's Adult Education State Grants. These grants support adult literacy programs and provide the skills and resources needed to gain employment—from obtaining a secondary school diploma to transitioning to a postsecondary school.

This Read Across America Day, we must also acknowledge a difficult truth—that our children are growing up in a country where some extremist politicians are banning books in grade schools and high schools. In America, we do not ban books. Rather, we celebrate the full diversity of stories and perspectives—and their potential to expand our horizons.

Dr. Seuss once wrote, “The more that you read, the more things you will know. The more that you learn, the more places you'll go.” Today, may we celebrate the power that is unleashed by reading—discovering the comfort of words in times of sorrow, finding inspiration to fuel our imagination, or having a clear-eyed understanding of our past so we can forge a future of limitless possibilities.

NOW, THEREFORE, I, JOSEPH R. BIDEN JR., President of the United States of America, by virtue of the authority vested in me by the Constitution and the laws of the United States, do hereby proclaim March 2, 2024, as Read Across America Day. I call upon children, families, educators, librarians, public officials, and all the people of the United States to observe this day with appropriate programs, ceremonies, and activities.

IN WITNESS WHEREOF, I have hereunto set my hand this first day of March, in the year of our Lord two thousand twenty-four, and of the Independence of the United States of America the two hundred and forty-eighth.

[FR Doc. 2024-04877

Filed 3-5-24; 8:45 am]

Billing code 3395-F4-P